SOCIAL SECURITY ADMINISTRATION

[Social Security Ruling, SSR 04-1p]

Attestation as an Alternative Signature

AGENCY: Social Security Administration (SSA).

ACTION: Notice of social security ruling.

SUMMARY: In accordance with 20 CFR 402.35(b)(1), the Commissioner of Social Security gives notice of Social Security Ruling, SSR-04-1p. This Ruling expands the Agency's policies to use attestation as an alternate signature method for SSA applications for benefits. The Agency will extend attestation, without further notice, to other processes as we gain experience and as we deem appropriate. The use of attestation as an alternate signing method will facilitate SSA's use of electronic records in lieu of paper records and increase its electronic processing.

EFFECTIVE DATE: May 4, 2004.

FOR FURTHER INFORMATION CONTACT: Lola Doyle, Office of Income Security Programs, Social Security Administration, 6401 Security Boulevard, Baltimore, MD 21235-6401, (410) 965-5899.

SUPPLEMENTARY INFORMATION: Although we are not required to do so pursuant to 5 U.S.C. 552(a)(1) and (a)(2), we are publishing this Social Security Ruling in accordance with 20 CFR 402.35(b)(1).

Social Security Rulings make available to the public precedential decisions relating to the Federal Old-age, Survivors, Disability, Supplemental Security Income, and Black Lung benefits programs. Social Security Rulings may be based on case decisions, Commissioner's decisions, opinions of the Office of the General Counsel, and policy interpretations of the law and regulations.

Although Social Security Rulings do not have the same force and effect as the statute or regulations, they are binding on all components of the Social Security Administration, in accordance with 20 CFR 402.35(b)(1), and are to be relied upon as precedents in adjudicating cases.

If this Social Security Ruling is later suspended, modified, or rescinded, we will publish a notice in the Federal Register to that effect.

(Catalog of Federal Domestic Assistance, Programs 96.001 Social Security—Disability Insurance; 96.002 Social Security—Retirement Insurance; 96.003 Social Security—Special Benefits for Persons Aged 72 and Over; 96.004 Social Security—Survivors Insurance; 96.006 Supplemental Security Income)
Dated: April 28, 2004.
Jo Anne B. Barnhart,
Commissioner of Social Security.

Policy Interpretation Ruling

Attestation as an Alternative Signature

Purpose: To announce the approval and planned use of attestation as an alternate means to satisfy the signing of SSA applications for benefits. Although this ruling addresses applications for benefits, the Agency will extend attestation, without further notice, to other processes as we gain experience and as we deem appropriate. Other processes may include requests for appeals and withdrawals, foreign claims, and Title XVI of the Social Security Act redeterminations processed through SSA's automated claims systems.

Citations: Regulations No. 4, subpart G, sections 404.610, 404.612, 404.630, 404.631, 404.632, 404.640 and 404.641; subpart J, sections 404.909, 404.924, 404.925, 404.933, and 404.968; and Regulations No. 16, subpart C, sections 416.310, 416.315, 416.340, 416.345, 416.350, and 416.355; subpart N, sections 416.1409, 416.1424, 416.1425, 416.1433, and 416.1468.

Introduction: SSA has a long established reliance on the pen-and-ink signature for applications and requests for appeals and withdrawals. However, as we will describe, SSA also has the authority to use alternate signature methods to satisfy the signing requirements under our existing regulations. As SSA increases the use of electronic technology in its business process, the use of alternate signing methods will also increase.

The Agency regulations require that one of certain prescribed persons signs an application for Social Security or Supplemental Security Income benefits in order to establish a valid claim for benefits. To satisfy this signing requirement, SSA has long required a pen-and-ink signature on paper applications. SSA's procedures also permit the use of a pen-and-ink mark on the application in place of the individual's signature provided the mark is witnessed and such witnessing is documented in the claims record. Even for the existing Agency Web site application for benefits, SSA currently requires an applicant to submit a signed and completed paper application.

SSA regulations regarding requests for administrative appeals and withdrawals require that such requests be “written” or “in writing.” SSA has interpreted these regulations as also requiring a signature or signing.

In 1996, SSA established policy formally interpreting its authority to accept alternate means of signing under its regulations. SSR 96-10p dated December 30, 1996, established a policy authorizing the use of approved electronic or digital signature technologies in lieu of the pen-and-ink signature. SSA established this authority as part of a broader policy authorizing the Agency's use of electronic documents and records in lieu of paper records. SSR 96-10p further expands the definition of a “signature” to include electronic and digital signature methods. SSR 96-10p remains in effect and is consistent with this ruling.

In August 2002, SSA clarified its procedures for the review and approval of electronic and digital signature technologies. In a Federal Register notice dated August 30, 2002, SSA indicated that it could adopt these technologies as well as other means of signing to facilitate electronic processing of its claims. The notice advised that SSA would treat information received or distributed through an approved electronic service delivery process as the functional equivalent of information received or distributed using traditional paper based methods.

SUPPLEMENTARY INFORMATION: The purpose of this ruling is to notify the public of the Agency's adoption of attestation as an alternative to the pen-and-ink signature to facilitate SSA's use of electronic records in lieu of paper records and to increase its electronic processing. For SSA purposes, attestation is defined as the actions taken by a SSA employee in confirming and documenting the applicant's affirmation of the application information and the applicant's intent to submit the application data for processing. During the application process, the SSA employee (or an individual officially designated to act on behalf of SSA) will explain to the applicant that SSA no longer requires a pen-and-ink signature on a paper application/printout so that SSA may reduce the reliance on paper records and implement a fully electronic application process. (Throughout this document the reference to a SSA employee also pertains to an individual officially designated to act on behalf of SSA.) The applicant must establish his or her intent to file, and he or she must be provided with the penalty clause information that explains the consequences for providing false information to SSA. SSA will begin using this alternative signature method in the near future for applications for benefits. SSA will extend this procedure to other processes as deemed appropriate.

Policy Interpretation: It is SSA policy that an application for benefits may be “signed” by a SSA employee's attestation. At the beginning of the application process, the applicant is informed that a pen-and-ink signature is no longer required if he or she intends to file and he or she understands the penalty for providing false information to SSA. To conclude the application process, the SSA employee will ask the applicant to confirm the correctness of the application data and the applicant's intent to submit the information for processing. The SSA employee will attest by annotating the applicant's actions in the electronic claims record. The SSA employee's attestation will document the applicant's affirmation and “signing” of the electronic claim and will be deemed equivalent to a pen-and-ink signature on a paper application and/or summary printout. The process will result in an electronic claim that the Agency will deem as signed. The annotated electronic application is considered a valid application for benefits. SSA anticipates using attestation also to process requests for administrative appeals and for withdrawals of applications.

The attestation as a signature or signing eliminates the need for claims interviewers to retain the systems-generated paper applications, electronic appeal request forms, or electronic withdrawal request forms as proof that individuals applied for benefits, submitted an appeal, or requested withdrawal of their application. Instead, the claims interviewer documents SSA's records that the applicant “signed” these forms.

The Agency expects that there will be situations where attestation cannot be used. Alternatively, SSA will require an applicant to affix his or her pen-and-ink signature or mark to the summary printout or completed paper application. The Agency's electronic claims file will be annotated that the application was signed with a pen-and-ink signature. The applicant will be informed that the paper printout/application will no longer be retained by SSA, and the applicant will have the option of keeping the application for his or her records. However, in rare instances where we are unable to take a claim on the system, (e.g., systems exclusions,) we will complete a paper application and require that the applicant sign with a pen-and-ink signature. When this occurs, SSA will retain the application for its records.

Based on the Agency's broad statutory authority to develop appropriate procedures for claims processing and its established policy concerning alternate signature methods, SSA has also approved the use of an electronic signature for individuals who file applications via the Internet at the SSA website. At the conclusion of the Internet Social Security Benefit Application, the individual will establish the fact that he or she is filing for benefits, affirm the truthfulness of the information on his or her application, and agree to sign the electronic application for benefits by pressing a “sign now” button on the Internet screen. Under this planned procedure, SSA will deem that the individual's action in pressing the “sign now” button is an electronic signature for the Internet application.

As with all interactions with SSA, an individual must provide some knowledge-based information (also referred to as personal information) to establish his or her identity. To verify identity, the information that is provided must match the information already included on SSA records.

Effective Date: This ruling is effective upon publication in the Federal Register.

[FR Doc. 04-10055 Filed 5-3-04; 8:45 am]

BILLING CODE 4191-02-P